DEPARTMENT OF COMMERCE

National Institute of Standards and Technology

Announcement of the American Petroleum Institute's Standards Activities

AGENCY: National Institute of Standards and Technology, Commerce.

ACTION: Notice of intent to develop or revise standards and request for public comment and participation in standards development.

SUMMARY: The American Petroleum Institute (API), with the assistance of other interested parties, continues to develop standards, both national and international, in several areas. This notice lists the standardization efforts currently being conducted by API committees. The publication of this notice by the National Institute of Standards and Technology (NIST) on behalf of API is being undertaken as a public service. NIST does not necessarily endorse, approve, or recommend the standards referenced.

ADDRESSES: American Petroleum Institute, 1220 L Street, NW., Washington, DC 20005; telephone (202) 682-8000, http://www.api.org.

FOR FURTHER INFORMATION CONTACT: All contact individuals listed in the supplementary information section of this notice may be reached at the American Petroleum Institute.

SUPPLEMENTARY INFORMATION:

Background

The American Petroleum Institute develops and publishes voluntary standards for equipment, materials, operations, and processes for the petroleum and natural gas industry. These standards are used by both private industry and by governmental agencies. All interested persons should contact the appropriate source as listed for further information.

Exploration & Production

API HF3, Practices for Mitigating Surface Impacts Associated with Hydraulic Fracturing, 1st Ed.

Spec Q2, Quality Management Systems for Service Supply Organizations for the Petroleum and Natural Gas Industries, 1st Ed.

RP 2EQ, Seismic Design Procedures and Criteria for Offshore Structures, 1st Ed.

RP 2FPS, Recommended Practice for Planning, Designing, and Constructing Floating Production Systems, 2nd Ed.

RP 2GEO, Geotechnical and Foundation Design Considerations, 1st Ed.

RP 2MET, Metocean Design and Operating Considerations, 1st Ed.

Spec 2SF, Manufacture of Structural Steel Forgings for Primary Offshore Applications, 1st Edition.

Spec 5CT, Specification for Casing and Tubing, 9th Ed.

Spec 5L-A3, Addendum 3 to Specification for Line Pipe, 44th Ed.

RP 5L2, Internal Coating of Line Pipe for Non-Corrosive Gas Transmission Service, 5th Ed.

RP 5L7, Recommended Practice for Unprimed Internal Fusion Bonded Epoxy Coating of Line Pipe, 3rd Ed.

RP 5LT, Recommended Practice for Truck Transportation of Line Pipe, 1st Ed.

RP 6HT, Heat Treatment and Testing of Large Cross Section and Critical Section Components, 2nd Ed.

Spec 7-1-A3, Addendum 3 to Specification for Rotary Drill Stem Elements, 1st Ed.

RP 8B, Inspection, Maintenance, Repair, and Remanufacture of Hoisting Equipment, 8th Ed.

Spec 8C, Drilling and Production Hoisting Equipment (PSL 1 and PSL 2), 5th Ed.

Spec 9A, Specification for Wire Rope, 26th Ed.

RP 9B, Application, Care, and Use of Wire Rope for Oil Field Service, 13th Ed.

Spec 11AX, Specification for Subsurface Sucker Rod Pumps and Fittings, 13th Ed.

RP 11BR, Recommended Practice for the Care and Handling of Sucker Rods, 10th Ed.

Spec 11E, Specification for Pumping Units, 19th Ed.

RP 11G, Recommended Practice for Installation and Lubrication of Pumping Units, 5th Ed.

RP 11V11, Application of Dynamic Simulation Techniques for Designing and/or Optimizing Gas-lift Wells and Systems, 1st Ed.

RP 13K, Chemical Analysis of Barite, 3rd Ed.

Spec 15HR, High Pressure Fiberglass Line Pipe, 4th Ed.

Spec 17D, Subsea Wellhead and Christmas Tree Equipment, 2nd Ed.

TR 17TR4, Considerations for Equipment Pressure Ratings, 1st Ed.

TR 17TR5, Avoidance of Blockages in Subsea Production Control and Chemical Injection Systems, 1st Ed.

TR 17TR6, Attributes of Production Chemicals in Subsea Production Systems, 1st Ed.

Spec 19G3, Running Tools, Pulling Tools and Kick-over Tools and Latches for Side-pocket Mandrels, 1st Ed.

RP 19G4, Practices for Side-pocket Mandrels and Related Equipment, 1st Ed.

Std 53, Blowout Prevention Equipment Systems for Drilling Operations, 4th Ed.

RP 96, Deepwater Well Design Considerations, 1st. Ed.

Bull 97, Well Control Interface Document Guidelines, 1st Ed.

For Further Information Contact: Roland Goodman, Standards Department, e-mail: (goodmanr@api.org).

Meetings/Conferences: The Exploration & Production Standards Conference will be held in San Francisco, California, June 27-July 1, 2011. Interested parties may visit the API Web site at http://www.api.org/meetings/ for more information regarding participation in these meetings.

Marketing

RP 1615, Installation of Underground Petroleum Storage Systems, 6th Ed.

RP 2611, Terminal Piping Inspection, 1st Ed.

FOR FURTHER INFORMATION CONTACT: Steve Crimaudo, Standards Department, e-mail: (crimaudos@api.org).

Petroleum Measurement

MPMS Chapter 2.2D, Calibration of Upright Cylindrical Tanks Using the Internal Electro-Optical Distance Ranging (EODR) Method, 2nd Ed.

MPMS Chapter 4.5, Master-Meter Provers, 3rd Ed.

MPMS Chapter 5.8, Measurement of Liquid Hydrocarbons by Ultrasonic Flowmeters Using Transit Time Technology, 2nd Ed.

MPMS Chapter 9.1, Standard Test Method for Density, Relative Density (Specific Gravity), or API Gravity of Crude Petroleum and Liquid Petroleum Products by Hydrometer Method, 3rd Ed.

MPMS Chapter 9.2, Standard Test Method for Density or Relative Density of Light Hydrocarbons by Pressure Hydrometer, 3rd Ed.

MPMS Chapter 9.3, Standard Test Method for Density, Relative Density, and API Gravity of Crude Petroleum and Liquid Petroleum Products by Thermohydrometer Method, 3rd Ed.

MPMS Chapter 10.9, Standard Test Method for Water in Crude Oils by Coulometric Karl Fischer Titration, 3rd Ed.

MPMS Chapter 11.3.3, Ethanol Density And Volume Correction Factors, 1st Ed.

MPMS Ch. 12.1.1, Calculation of Static Petroleum Quantities, Part 1—Upright Cylindrical Tanks and Marine Vessels, 3rd Ed.

MPMS Ch. 12.1.2, Calculation of Static Petroleum Quantities, Part 2—Calculation Procedures for Tank Cars, 2nd Ed.

MPMS Ch. 14.3.1, Concentric, Square-Edged Orifice Meters, Part 1—General Equations and Uncertainty Guidelines, 4th Ed.

MPMS Chapter 14.3.3, Concentric, Square-Edged Orifice Meters, Part 3—Natural Gas Applications, 4th Ed.

MPMS Chapter 14.7, Mass Measurement of Natural Gas Liquids, 4th Ed.

MPMS Chapter 14.9, Measurement of Natural Gas by Coriolis Meter, 1st Ed.

MPMS Chapter 17.5, Guidelines for Cargo Analysis and Reconciliation, 3rd Ed.

MPMS Chapter 17.6, Guidelines for Determining Fullness of Pipelines Between Vessels and Shore Tanks, 2nd Ed.

MPMS Chapter 17.9, Vessel Experience Factor (VEF), 2nd Ed.

MPMS Chapter 19.1, Evaporative Loss From Fixed-roof Tanks (Previously Publication 2518), 4th Ed.

MPMS Chapter 19.2, Evaporative Loss From Floating-roof Tanks (previously Publications 2517 and 2519), 3rd Ed.

MPMS Chapter 19.3, Part H, Tank Seals and Fittings Certification—Administration (also supersedes and incorporates the relevant sections of API MPMS Chapter 19.3 Parts F and G), 2nd Ed.

MPMS Chapter 19.4, Evaporative Loss Reference Information and Speciation Methodology, 3rd. Ed

MPMS Chapter 20.3, Multiphase Flow Measurement, 1st Ed.

MPMS Chapter 20.4, Draft Standard for Phase Behavior Application in Upstream Measurement and Allocation, 1st Ed.

MPMS Chapter 20.6, Recommended Practice for Production Allocation Methodologies and Techniques, 1st Ed.

MPMS Chapter 21.1, Electronic Gas Measurement, 2nd Ed.

MPMS Chapter 22.2, Testing Protocols—Differential Pressure Flow Measurement Devices, 2nd Ed.

MPMS Chapter 22.4, Testing Protocols—Pressure, Differential Pressure, and Temperature Measuring Devices, 1st Ed.

MPMS Chapter 22.5, Testing Protocols—Electronic Flow Computer Calculations, 1st Ed.

TR 2571, Fuel Gas Measurement, 1st Ed.

FOR FURTHER INFORMATION CONTACT: Paula Watkins, Standards Department, e-mail: (watkinsp@api.org)

Meetings/Conferences: The Spring Committee on Petroleum Measurement Meeting will be held in Dallas, Texas, March 7-10, 2011. The Fall Committee on Petroleum Measurement Meeting will be held in Savannah, Georgia, October 24-27, 2011. Interested parties may visit the API Web site at http://www.api.org/meetings/ for more information regarding participation in these meetings.

Pipeline

Std 1104, Welding of Pipelines and Related Facilities, 21st Ed.

Std 1160, Managing System Integrity for Hazardous Liquid Pipelines, 2nd Ed.

RP 1161, Guidance Document for the Qualification of Liquid Pipeline Personnel, 2nd Ed.

For Further Information Contact: Ed Baniak, Standards Department, e-mail: (baniake@api.org).

Refining

RP 553, Refinery Valves and Accessories for Control and Safety Instrumented Systems, 2nd Ed.

RP 556, Instrumentation, Control, and Protective Systems for Gas Fired Heaters, 2nd Ed.

Std 616, Gas Turbines for the Petroleum, Chemical and Gas Industry Services, 5th Ed.

Std 622, Type Testing of Process Valve Packing for Fugitive Emissions, 2nd Ed.

Std 650-A-3, Addendum 3 to Welded Tanks for Oil Storage, 11th Ed.

Std 675, Positive Displacement Pumps—Controlled Volume, 3rd Ed.

Std 685, Sealless Centrifugal Pumps for Petroleum, Petrochemical, and Gas Industry Services, 2nd Ed.

RP 688, Pulsation and Vibration Control in Positive Displacement Machinery Systems for Petroleum, Petrochemical, and Natural Gas Industry Services, 1st Ed.

RP 751, Safe Operation of Hydrofluoric Acid Alkylation Units, 4th Ed.

RP 756, Management of Hazards Associated with Location of Process Plant Tents and Fabric Structures, 1st Ed.

Std 780, Security Vulnerability Assessment Methodology for the Petroleum and Petrochemical Industries, 1st Ed.

TR 934-B, Fabrication Considerations for Vanadium-Modified Cr-Mo Steel Heavy Wall Pressure Vessels, 1st Ed.

TR 938-C, Use of Duplex Stainless Steels in the Oil Refining Industry, 2nd Ed.

FOR FURTHER INFORMATION CONTACT: David Soffrin, Standards Department, e-mail: (soffrind@api.org).

Meetings/Conferences: The Spring Refining and Equipment Standards Meeting will be held in Seattle, Washington, May 16-18, 2011. The Fall Refining and Equipment Standards Meeting will be held in Los Angeles, California, November 14-16, 2011. Interested parties may visit the API Web site at http://www.api.org/meetings/ for more information regarding participation in these meetings.

Safety and Fire Protection

RP 2001, Fire Protection in Refineries, 9th Ed.

RP 2028, Flame Arresters in Piping Systems, 4th Ed.

RP 2030, Application of Fixed Water Spray Systems for Fire Protection in the Petroleum and Petrochemical Industries, 4th Ed.

RP 2218, Fireproofing Practices in Petroleum and Petrochemical Processing Plants, 3rd Ed.

Std 2220, Contractor Safety Performance Process, 3rd Ed.

RP 2221, Contractor and Owner Safety Program Implementation, 3rd Ed.

RP 2350, Overfill Protection for Storage Tanks in Petroleum Facilities, 4th Ed.

Publ 2510A, Fire Protection Considerations for the Design and Operation of Liquefied Petroleum Gas (LPG) Storage Facilities, 3rd Ed.

FOR FURTHER INFORMATION CONTACT: David Soffrin, Standards Department, e-mail: (soffrind@api.org).

For Additional Information on the overall API standards program, Contact: David Miller, Standards Department, e-mail: miller@api.org.

Dated: March 15, 2011.
Charles H. Romine,
Acting Associate Director for Laboratory Programs.

[FR Doc. 2011-7121 Filed 3-24-11; 8:45 am]

BILLING CODE 3510-13-P